DEPARTMENT OF DEFENSE

Department of the Army

Army Education Advisory Committee Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160, the Department of the Army announces the following committee meeting:

Name of Committee: Army Education Advisory Committee (AEAC).

Date of Meeting: September 4-5, 2012.

Time of Meeting: 0800-1600.

Place of Meeting: TRADOC HQ, 950 Jefferson Ave, Building 950, Conference Room 2047, 2rd Floor, Ft Eustis, VA.

Proposed Agenda: Purpose of the meeting is to gather and review information, discuss, and deliberate issues related to shifting Army training from an instructor-centric to a learner-centric paradigm required by the Army 2020 learning environment. The agenda will include topics relating to Army Learning Model 2015 and support to essential proficiencies and professional development plan for facilitators. Additionally, recommendations submitted by subcommittees will be discussed and deliberated.

FOR FURTHER INFORMATION CONTACT: For information please contact Mr. Wayne Joyner, Designated Federal Officer, at albert.w.joyner.civ@mail.mil, (757) 501-5810, or to the following address: Army Education Advisory Committee, Designated Federal Officer, ATTN: ATTG-OPS-EO (Joyner), 950 Jefferson Ave, Building 950, Ft Eustis, Virginia 23604.

SUPPLEMENTARY INFORMATION: Meeting of the Advisory Committee is open to the public and any member of the public wishing to attend this meeting should contact the Designated Federal Officer previously listed at least ten calendar days prior to the meeting for information on base entry. Individuals without a DoD Government Common Access Card require an escort at the meeting location. Attendance will be limited to those persons who have notified the Committee Management Office of their intention to attend.

Filing Written Statement: Pursuant to 41 CFR 102-3.140d, the Committee is not obligated to allow the public to speak, however, any member of the public wishing to provide input to the Committee should submit a written statement in accordance with 41 CFR 102-3.140(c) and section 10(a)(3) of the Federal Advisory Committee Act and the procedures described in this paragraph. Written statements can be submitted to the Designated Federal Officer at the address listed (see FOR FURTHER INFORMATION CONTACT). Statements being submitted in response to the agenda mentioned in this notice must be received at least ten calendar days prior to the meeting which is the subject of this notice. Written statements received after this date may not be provided to or considered by the Advisory Committee until its next meeting. The Designated Federal Officer will review all timely submissions with the Advisory Committee Chairperson and ensure they are provided to members of the Board before the meeting that is the subject of this notice. After reviewing written comments, the Chairperson and the Designated Federal Officer may choose to invite the submitter of the comments to orally present their issue during open portion of this meeting or at a future meeting.

Brenda S. Bowen,
Army Federal Register Liaison Officer.

[FR Doc. 2012-20350 Filed 8-17-12; 8:45 am]

BILLING CODE 3710-08-P